DEPARTMENT OF JUSTICE

Notice of Lodging Proposed Consent Decree

In accordance with Departmental Policy, 28 CFR 50.7, notice is hereby given that a proposed Consent Decree in United States v. John R. Cumbie, Civil No. 2:08-CV-01825-RMG, was lodged with the United States District of South Carolina on March 1, 2011.

This proposed Consent Decree concerns a complaint filed by the United States against Defendant John R. Cumbie, pursuant to Sections 301 and 404 of the Clean Water Act, 33 U.S.C. 1311 and 1344, to obtain injunctive relief and impose civil penalties against Defendant for violating the Clean Water Act by discharging fill material into waters of the United States. The proposed Consent Decree resolves these allegations by requiring Defendant to restore the impacted areas and to perform mitigation and to pay a civil penalty. The proposed Consent Decree also provides for Defendant to perform a supplemental environmental project. The Department of Justice will accept written comments relating to this proposed Consent Decree for thirty (30) days from the date of publication of this Notice. Please address comments to Martin F. McDermott, United States Department of Justice, Environment & Natural Resources Division, Environmental Defense Section, P.O. Box 23986, Washington, DC 20026-3986, and refer to United States v. John R. Cumbie, Civil No. 2:08-CV-01825-RMG, DJ # 90-5-1-1-17164.

The proposed Consent Decree may be examined at the Clerk's Office, United States District Court for the District of South Carolina, Hollings Judicial Center, Meeting Street at Broad, Charleston, SC 29401.

In addition, the proposed Consent Decree may be viewed at http://www.usdoj.gov/enrd/Consent_Decrees.html.

Maureen M. Katz,
Assistant Section Chief, Environment & Natural Resources Division.

[FR Doc. 2011-5087 Filed 3-7-11; 8:45 am]

BILLING CODE P